DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed new information collection. In accordance with the Paperwork Reduction Act of 1995 (44 U.S.C. 3506(c)(2)(A)), this notice seeks comments concerning FEMA's Web site usability study to identify visitors' information needs, usage patterns, preferences, ease of use, and overall satisfaction.

SUPPLEMENTARY INFORMATION: This proposed information collection is supported by various regulations, legislation and presidential mandates requiring government agencies to build citizen-centered websites, including Section 4 of the President's Management Agenda, the E-Government Act of 2002, and the Recommended Policies and Guidelines for Federal Public Web sites submitted to the Office of Management and Budget (OMB) by the Interagency Committee on Government Information. All of these authorities stipulate that federal agencies develop and administer their electronic capabilities based on customer needs and formulate IT performance criteria consistent with a more responsive and cost-effective government. Furthermore, the E-Government Act further outlines specific mandates for disaster activities, including that: “The Federal Emergency Management Agency, shall initiate pilot projects'that further the goal of maximizing the utility of information technology in disaster management.” This collection attempts to better understand FEMA's website visitors' information and transactional needs and their overall experience navigating the site. Findings will assist program managers to enhance the website's appearance, content, and ease of use in order to improve its ability to better serve the public.

Collection of Information

Title: FEMA's Website Usability Study.

Type of Information Collection: New Collection.

OMB Number: 1660-NEW16.

Form Numbers: None.

Abstract: The FEMA's Web site Usability Study will collect information on visitors' information and transactional needs, usage patterns and preferences, and overall satisfaction with the navigational experience. Study findings, combined with other website-related internal agency data, will be used to assist managers to redesign the Web site and enhance its utility to the public.

Affected Public: Individuals, Businesses, and Not-for-Profit Organizations.

Estimated Total Annual Burden Hours: 15,360.

Annual Burden Hours
Project/activity (survey, form(s), focus group, etc.) | Number of respondents (A) | Frequency of respones (B) | Burden hours per respondent (C) | Annual responses (A×B) | Total annual burdenhours (A×B×C)
Online Survey | 192,000 | 1 | 0.08 | 192,000 | 15,360
Total | 192,000 | 1 | 0.08 | 192,000 | 15,360

Estimated Cost: $16,742.00 (All Respondents) or $1.09 per respondent.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Cindy Taylor, Assistant Director of Public Affairs at (202) 646-4600 for additional information. You may contact Ms. Anderson for copies of the proposed collection of information at facsimile number (202) 646-3347 or e-mail address: FEMA-Information-Collections@dhs.gov.

Dated: March 3, 2005.
George S. Trotter,
Acting Branch Chief, Information Resources Management Branch, Information Technology Services Division.

[FR Doc. 05-4799 Filed 3-10-05; 8:45 am]

BILLING CODE 9110-15-P